DEPARTMENT OF THE TREASURY

Alcohol and Tobacco Tax and Trade Bureau

27 CFR Part 9

[Docket No. TTB-2022-0014; Notice No. 219]

RIN 1513-AC84

Proposed Establishment of the Wanapum Village Viticultural Area

AGENCY: Alcohol and Tobacco Tax and Trade Bureau, Treasury.

ACTION: Notice of proposed rulemaking.

SUMMARY: The Alcohol and Tobacco Tax and Trade Bureau (TTB) proposes to establish the 2,415-acre “Wanapum Village” American viticultural area (AVA) in Grant County, Washington. The proposed AVA area is located entirely within the existing Columbia Valley AVA. TTB designates viticultural areas to allow vintners to better describe the origin of their wines and to allow consumers to better identify wines they may purchase. TTB invites comments on these proposals.

DATES: TTB must receive your comments on or before January 27, 2023.

ADDRESSES: You may electronically submit comments to TTB on this proposal and view copies of this document, its supporting materials, and any comments TTB receives on it within Docket No. TTB-2022-0014 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act provisions pursuant to section 1111(d) of the Homeland Security Act of 2002, as codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Petition To Establish the Wanapum Village AVA

TTB received a petition from Dr. Kevin Pogue, a professor of geology at Whitman College, proposing to establish the “Wanapum Village” AVA. Dr. Pogue submitted the petition on behalf of local vineyard owners and winemakers. The proposed AVA is located in Grant County, Washington, and is entirely within the existing Columbia Valley AVA (27 CFR 9.74). Within the proposed AVA, there are 2 commercial vineyards which cover a total of 538 acres. The distinguishing features of the proposed Wanapum Village AVA are its topography, soils, and climate.

Proposed Wanapum Village AVA

Name Evidence

The proposed Wanapum Village AVA takes its name from a small community constructed in the early 1960s to house personnel associated with the construction and operation of the nearby Wanapum Dam on the Columbia River. The mid-century style buildings of “Wanapum Village * * * [are] eligible for listing in the National Register of Historic Places.” ¹ Wanapum Village appears as the name of the community on the 2017 USGS 1:24,000-scale Beverly quadrangle map and the 1979 1:100,000-scale Priest Rapids map. In 2010, the Grant County Public Utility District, owners of the buildings and land comprising Wanapum Village, declared the property surplus and offered it for sale. The Zirkle Fruit Company, owners of one of the vineyards in the proposed AVA, purchased the property in 2016, as noted in an article included in the petition titled “Zirkle buying Wanapum Village.” ² As additional evidence that the region of the proposed AVA is known as “Wanapum Village,” the petition included an article about a 2019 wildfire in the region of the proposed AVA titled “Level 1 Evacuation for Wanapum Village due to wildfire.” ³ A 2021 wildfire that “burned about two acres south of Wanapum Village” ⁴ was named the “Wanapum Village Fire.” ⁵ Finally, two streets within the proposed AVA are named Wanapum Village Lane and Wanapum Village Loop.

¹ legalease.net/uploads/ferris/2/2/14396222.pdf.

² https://www.capitalpress.com/state/washington/zirkle-buying-wanapum-village/article_0a3451e8-2b06-57b7-bc62-3338c5ee234a.html.

³ https://fox28spokane.com/level-1-evacuation-for-wanapum-village-due-to-wildfire.

⁴ https://www.kpq.com/multiple-fires-in-wanapum-area-may-be-intentional/.

⁵ https://www.fireweatheravalanche.org/wildfire/incident/194680/washington/wanapum-village-fire.

Boundary Evidence

The proposed Wanapum Village AVA is located along the gentle to moderately sloping hillsides and low rolling hills where the south- and west-facing slopes of the Frenchman Hills meet the Columbia River at its confluence with Crab Creek. The proposed northern boundary primarily follows a series of roads which separate the proposed AVA from steeper, rockier terrain and federally-owned lands that are unavailable for commercial viticulture. The proposed eastern boundary follows a series of section lines on the USGS maps and largely corresponds with the western and southern boundaries of the neighboring Royal Slope AVA (27 CFR 9.271). The proposed southern boundary follows section lines on the USGS maps and separates the proposed AVA from the small town of Schwana, as well as from federally-owned lands that are not available for commercial viticulture. The proposed western boundary follows State Highway 243 and separates the proposed AVA from federally-owned lands along the eastern bank of the Columbia River.

Distinguishing Features

According to the petition, the distinguishing features of the proposed Wanapum Village AVA are its topography, soils, and climate.

Topography

Low, rolling hills with gentle to moderate slopes characterize the topography of the proposed Wanapum Village AVA. Elevations within the proposed AVA range from 515 to 950 feet, and the average elevation is approximately 600 feet. By contrast, to the north and northeast of the proposed AVA, the terrain of the established Royal Slope AVA consists of a single gentle incline that rises to the summit of the Frenchman Hills. Elevations are higher in the Royal Slope AVA than in the proposed Wanapum Village AVA, rising to a maximum of 1,756 feet. To the south of the proposed AVA is Sentinel Gap, a 1,500-foot deep, 1.5-mile wide, rugged, cliff-walled canyon carved by the Columbia River. The gap forms a natural geographic barrier between the proposed Wanapum Village AVA and the gently-sloping terrain of the established Wahluke Slope AVA (27 CFR 9.192). To the immediate west of the proposed AVA is the relatively narrow floodplain of the Columbia River, which, according to the USGS maps included in the petition, has elevations between 500 and 530 feet.

According to the petition, the topography of the proposed AVA affects viticulture. The proximity of the proposed AVA to Sentinel Gap increases wind speeds within the proposed AVA, as the canyon funnels wind into the proposed AVA. High winds can reduce mildew pressure on the vines and also promote the development of smaller grapes with thicker skins than are found on the same varietals grown in less windy conditions. Additionally, because the proposed AVA has lower elevations than the neighboring Wahluke Slope and Royal Slope AVAs, the entire proposed Wanapum Village AVA was repeatedly inundated by ice-age floodwaters that reached a maximum depth of 1,250 feet. The water flowed at a relatively high velocity, depositing coarse-grained sediments that formed the basis for the soils in the proposed AVA, compared to the finer clays and silts that were deposited at higher elevations outside the proposed AVA.

Soils

As previously noted, the coarse-grained soils of the proposed Wanapum Village AVA are developed from sand and gravel deposited by ice-age floods mixed with wind-deposited sand. The four main soil series dominating the proposed AVA are the Burbank, Winchester, Schwana, and Quincy series. All of those soil series are described as excessively or somewhat excessively well-drained.

The petition states that the proposed AVA soils are much coarser than the soils in the neighboring Royal Slope AVA, which is located to the north and east of the proposed AVA. In soil samples taken from both the proposed AVA and the established Royal Slope AVA, only one percent of the weight of the soil sample from the Royal Slope AVA consisted of medium to coarse grains, compared to 46 percent of the sample from the proposed Wanapum Village AVA. The petition also notes that soils in the established Royal Slope AVA formed primarily in fine-grained slackwater sediments overlain by wind-deposited silt, and less than 2 percent of the soils derived from “outburst sands and gravels” such as those found in the proposed AVA.

To the immediate south of the proposed AVA, in Sentinel Gap, the soils are defined as “rubble land-rock outcrop complex.” These soils are generally considered unsuitable for agriculture. Farther south of the proposed AVA, within the established Wahluke Slope AVA, the soils are similar to those of the proposed Wanapum Village AVA. The petition did not include information on soils to the west of the proposed AVA.

The soils of the proposed Wanapum Village AVA have an effect on viticulture. Coarse-grained, excessively well-drained soils require more irrigation water and more easily promote vine stress than finer-grained soils. Vines planted in coarse-textured soils often have deeper roots since water has a greater tendency to move vertically through the profile. Coarse soils are less susceptible to erosion than soils formed in silt and fine sand, so cover crops are not critical and are not currently used in the vineyards of the proposed AVA. Finally, the petition notes that coarse-textured soils without cover crops warm faster than fine-grained soils that use cover crops. The warmer soils promote earlier onset of phenological stages in grapes, such as bud break and veraison.

Climate

According to the petition, the climate of the proposed Wanapum Village AVA is warm and windy. The petition included data on the average growing season temperature,⁶ average maximum temperature, growing degree day (GDD) ⁷ accumulation, average wind speed, and maximum wind speed for one location in the proposed AVA, three locations in the established Royal Slope AVA (north and east of the proposed AVA), and three locations in the established Wahluke Slope AVA (south of the proposed AVA). The petition did not include data for the region to the west of the proposed AVA.

⁶ The petition defines the growing season as April 1 through October 31.

⁷ See Albert J. Winkler, General Viticulture (Berkeley: University of California Press, 1974), pages 61-64. In the Winkler climate classification system, annual heat accumulation during the growing season, measured in annual GDDs, defines climatic regions. One GDD accumulates for each degree Fahrenheit that a day's mean temperature is above 50 degrees F, the minimum temperature required for grapevine growth.

⁸ The Beverly weather station is located within the proposed AVA. The Royal City East, Royal City West, and Royal Slope East stations are located within the Royal Slope AVA. The Desert Aire, Mattawa, and Wahluke Slope stations are located within the Wahluke Slope AVA.

Table 1—2015-2018 Temperature Data
[Degrees fahrenheit]
Location ⁸ | Average growing season temperature: 2015 | Average growing season temperature: 2016 | Average growing season temperature: 2017 | Average growing season temperature: 2018 | Average maximum temperature: 2015 | Average maximum temperature: 2016 | Average maximum temperature: 2017 | Average maximum temperature: 2018 | Growing degree day accumulations: 2015 | Growing degree day accumulations: 2016 | Growing degree day accumulations: 2017 | Growing degree day accumulations: 2018
Beverly | 71.8 | 66.7 | 66.1 | 65.8 | 85.9 | 80.6 | 78.6 | 78.2 | 2816 | 3593 | 3514 | 3415
Royal City East | 67.0 | 62.8 | 62.5 | 62.8 | 80.4 | 75.1 | 75.4 | 75.8 | 2194 | 2784 | 2777 | 2817
Royal City West | 69.0 | 64.0 | 63.6 | 64.0 | 81.4 | 76.2 | 76.3 | 76.6 | 2461 | 3034 | 3022 | 3079
Royal Slope East | 68.5 | 64.0 | 64.0 | 64.2 | 79.3 | 74.2 | 74.5 | 74.5 | 2396 | 3041 | 3092 | 3099
Desert Aire | 71.3 | 67.1 | 66.2 | 66.6 | 84.7 | 79.7 | 79.8 | 79.9 | 2750 | 3669 | 3519 | 3569
Mattawa | 69.2 | 65.0 | 64.3 | 64.8 | 83.2 | 78.0 | 78.4 | 78.3 | 2406 | 3229 | 3148 | 3226
Wahluke Slope | 72.4 | 66.9 | 66.9 | 67.0 | 81.7 | 76.4 | 76.5 | 76.6 | 2885 | 3637 | 3667 | 3675

Table 2—2015-2018 Wind Speeds
[Miles per hour]
Location | Average wind speed: 2015 | Average wind speed: 2016 | Average wind speed: 2017 | Average wind speed: 2018 | Maximum wind speed: 2015 | Maximum wind speed: 2016 | Maximum wind speed: 2017 | Maximum wind speed: 2018
Beverly | 7.1 | 7.6 | 7.6 | 7.8 | 27.3 | 28.2 | 26.8 | 16.0
Royal City East | 3.6 | 4.0 | 2.7 | 2.8 | 12.3 | 14.5 | 13.7 | 13.4
Royal City West | 5.5 | 5.4 | 5.1 | 5.2 | 16.1 | 16.1 | 15.5 | 15.6
Royal Slope East | 5.5 | 6.3 | 6.2 | 6.2 | 16.0 | 17.5 | 17.6 | 17.1
Desert Aire | 4.7 | 5.2 | 4.9 | 5.0 | 16.6 | 17.5 | 16.8 | 17.0
Mattawa | 4.5 | 5.6 | 5.0 | 5.5 | 16.1 | 18.2 | 16.7 | 18.0
Wahluke Slope | 7.6 | 7.9 | 7.4 | 8.0 | 22.7 | 22.9 | 22.1 | 22.8

According to the data in the tables, the proposed Wanapum Village AVA has a higher average growing season temperature and accumulates more GDDs than any of the weather station locations within the established Royal Slope AVA. The weather station in the proposed AVA also had higher average and maximum wind speeds than any station in the Royal Slope AVA. The data suggests that temperatures in the established Wahluke Slope AVA are more varied than in the proposed AVA, with one station reporting very similar temperatures and GDD accumulations (Desert Aire), one reporting slightly lower temperatures and GDD accumulations (Mattawa), and one reporting slightly warmer temperatures and GDD accumulations (Wahluke Slope). However, the average and maximum wind speeds in the proposed AVA are consistently higher than in the Wahluke Slope AVA, with the exception of the 2015, 2016, and 2018 average wind speeds for the Wahluke Slope station.

According to the petition, the warm temperatures and high GDD accumulations within the proposed Wanapum Village AVA mean that vineyard owners are able to plant warmer-climate cultivars that require more heat to ripen. Additionally, cooler climate grape varietals planted in the proposed AVA will ripen faster and accumulate more sugars than the same varietals planted in the cooler Royal Slope AVA.

Summary of Distinguishing Features

The following table summarizes the distinguishing features of the proposed Wanapum Village AVA and the surrounding regions.

Table 3—Summary of Distinguishing Features
Region | Description
Proposed Wanapum Village AVA | Low, rolling hills with gentle to moderate slopes; elevations between 515 and 950 feet; soils derived from ice-age flood deposits of sand and gravel mixed with wind-deposited sand; coarse-grained soils that are excessively to somewhat excessively well-drained; warm temperatures and high GDD accumulations; high average and maximum wind speeds due to proximity to Sentinel Gap.
North and East (established Royal Slope AVA) | Single gentle incline with elevations up to 1,756 feet; finer-grained soils formed from slackwater sediments overlain by wind-deposited silt; lower temperatures and GDD accumulations; less windy.
Immediate South (Sentinel Gap) | Rugged, steep-walled canyon; rubble land-rock outcrop complex unsuitable for viticulture.
South (established Wahluke Slope AVA) | Gently sloping incline; soils similar to those of proposed AVA; some regions have similar wind speeds and temperatures, while other locations have higher or lower temperatures, GDD accumulations, and wind speeds.
West | Columbia River floodplain; elevations between 500 and 530 feet.

Comparison of the Proposed Wanapum Village AVA to the Existing Columbia Valley AVA

The Columbia Valley AVA was established by T.D. ATF-190, which published in the Federal Register on November 13, 1984 (49 FR 44895). T.D. ATF-190 describes the Columbia Valley AVA as a large, treeless basin surrounding the Yakima, Snake, and Columbia Rivers. Growing season lengths within the Columbia Valley AVA are over 150 days, and GDD accumulations exceed 2,000. Annual precipitation amounts are less than 15 inches. Elevations within the Columbia Valley AVA are below 2,000 feet.

The proposed Wanapum Village AVA shares some of the general viticultural features of the larger Columbia Valley AVA. For instance, elevations within the proposed AVA are below 2,000 feet, and annual GDD accumulations from 2015 to 2018 did not fall below 2,800. However, the proposed AVA does have some distinctive features, namely the soils. Within the proposed AVA, soils are primarily formed from sand and gravel deposited by water and are classified as sand and stony loamy sand. By contrast, T.D. ATF-190 described the soils of the Columbia Valley AVA as fine-grained soils derived from wind-deposited silts and fine sand.

TTB Determination

TTB concludes that the petition to establish the 2,415-acre “Wanapum Village” AVA merits consideration and public comment, as invited in this document.

Boundary Description

See the narrative boundary descriptions of the petitioned-for AVA in the proposed regulatory text published at the end of this document.

Maps

The petitioner provided the required maps, and they are listed below in the proposed regulatory text. You may also view the proposed Wanapum Village AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

If TTB establishes this proposed AVA, its name, “Wanapum Village,” will be recognized as a name of viticultural significance under § 4.39(i)(3) of the TTB regulations (27 CFR 4.39(i)(3)). The text of the proposed regulation clarifies this point. Consequently, wine bottlers using “Wanapum Village” in a brand name, including a trademark, or in another label reference as to the origin of the wine, would have to ensure that the product is eligible to use the viticultural area's name, “Wanapum Village.” The approval of the proposed Wanapum Village AVA would not affect any existing AVA, and any bottlers using “Columbia Valley” as an appellation of origin or in a brand name for wines made from grapes grown within the Wanapum Village AVA would not be affected by the establishment of this new AVA. If approved, the establishment of the proposed Wanapum Village AVA would allow vintners to use “Wanapum Village” or “Columbia Valley” as appellations of origin for wines made from grapes grown within the proposed AVA, if the wines meet the eligibility requirements for the appellation.

Public Participation

Comments Invited

TTB invites comments from interested members of the public on whether TTB should establish the proposed Wanapum Village AVA. TTB is interested in receiving comments on the sufficiency and accuracy of the name, boundary, topography, and other required information submitted in support of the AVA petition. In addition, because the proposed Wanapum Village AVA would be within the existing Columbia Valley AVA, TTB is interested in comments on whether the evidence submitted in the petition regarding the distinguishing features of the proposed AVA sufficiently differentiates it from the existing AVA. TTB is also interested in comments on whether the geographic features of the proposed AVA are so distinguishable from the Columbia Valley AVA that the proposed Wanapum Village AVA should not be part of the established AVA. Please provide any available specific information in support of your comments.

Because of the potential impact of the establishment of the proposed Wanapum Village AVA on wine labels that include the term “Wanapum Village” as discussed above under Impact on Current Wine Labels, TTB is particularly interested in comments regarding whether there will be a conflict between the proposed area names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following methods:

• Federal e-Rulemaking Portal: You may send comments via the online comment form posted with this proposal within Docket No. TTB-2022-0014 on “Regulations.gov,” the Federal e-rulemaking portal, at https://www.regulations.gov. A direct link to that docket is available under Notice No. 219 on the TTB website at https://www.ttb.gov/wine/notices-of-proposed-rulemaking. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

Please submit your comments by the closing date shown above in this proposal. Your comments must reference Notice No. 219 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the TTB Administrator before the comment closing date to ask for a public hearing. The TTB Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition and selected supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions about commenting on this proposal or to request copies of this document, the related petition and its supporting materials, or any comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Add § 9.___to read as follows:

§ 9.__ Wanapum Village.

(a) Name. The name of the viticultural area described in this section is “Wanapum Village”. For purposes of part 4 of this chapter, “Wanapum Village” is a term of viticultural significance.

(b) Approved maps. The one United States Geological Survey (USGS) 1:24,000 scale topographic map used to determine the boundary of the viticultural area is titled Beverly, Washington (2017).

(c) Boundary. The Wanapum Village viticultural area is located in Grant County, Washington. The boundary of the Wanapum Village viticultural area is described as follows:

(1) The beginning point is on the Beverly map at the intersection of State Highway 243 and southern boundary of section 34 just north of the town of Schwana. From the beginning point, proceed northwest along Highway 243 to its intersection with an unnamed local road on the north side of Wanapum Village, near the center of section 21; then

(2) Proceed east in a straight line for 2,450 feet to the 600-foot elevation contour; then

(3) Proceed southeasterly along the 600-foot elevation contour for approximately 1,500 feet to its intersection with an unnamed local road in section 22; then

(4) Proceed northeasterly along the unnamed local road for approximately 3,000 feet to its intersection with another unnamed local road; then

(5) Proceed north-northeast in a straight line for approximately 500 feet to the intersection of Beverly Burke Road and an unnamed local road; then

(6) Proceed northeasterly along Beverly Burke Road to the point where it becomes concurrent with the northern boundary of section 22, and continue east along Beverly Burke Road to its intersection with the eastern boundary of section 22; then

(7) Proceed south along the eastern boundary of section 22 for one mile to its intersection with the northern boundary of section 26; then

(8) Proceed east along the northern boundary of section 26 for one mile to its intersection with the eastern boundary of section 26; then

(9) Proceed south along the eastern boundary of section 26 to its intersection with the 540-foot elevation contour; then

(10) Proceed southwesterly along the 540-foot elevation contour to its intersection with the southern boundary of section 26; then

(11) Proceed west along the southern boundary of section 26 to its intersection with the eastern boundary of section 34; then

(12) Proceed south along the eastern boundary of section 34 for 1 mile to its intersection with the southern boundary of section 34; then

(13) Proceed west along the southern boundary of section 34 for 0.5 mile to the beginning point.

Signed: November 15, 2022.
Mary G. Ryan,
Administrator.
Approved: November 16, 2022.
Thomas C. West, Jr.,
Deputy Assistant Secretary (Tax Policy).

[FR Doc. 2022-25272 Filed 11-25-22; 8:45 am]

BILLING CODE 4810-31-P